DEPARTMENT OF TRANSPORTATION

Federal Aviation Administration

14 CFR Part 29

[Docket No. FAA-2016-6940; Notice No. 29-039-SC]

Special Conditions: Bell Helicopter Textron, Inc. (BHTI), Model 525 Helicopters; Crew Alerting System (CAS)

AGENCY: Federal Aviation Administration, DOT.

ACTION: Final special conditions; correction.

SUMMARY: The FAA is correcting the special condition published on November 9, 2016 which became effective on December 9, 2016 for the BHTI Model 525 helicopter. This helicopter has a novel or unusual design feature associated with the electronic CAS. The applicable airworthiness regulations do not contain adequate or appropriate safety standards for this design feature. The special conditions contain the additional safety standards that the Administrator considers necessary to establish a level of safety equivalent to that established by the existing airworthiness standards.

DATES: Effective Date: May 31, 2017.

FOR FURTHER INFORMATION CONTACT: George Harrum, Aviation Safety Engineer, Regulations and Policy Group, Rotorcraft Directorate, FAA, 10101 Hillwood Pkwy, Fort Worth, TX 76177; telephone (817) 222-5110; email George.Harrum@faa.gov.

SUPPLEMENTARY INFORMATION:

Background

On November 9, 2016, the FAA published a final special condition entitled “Special Condition: Bell Helicopter Textron, Inc. (BHTI), Model 525 Helicopters; Crew Alerting System (CAS).” 81 FR 78707. In that final special condition, the FAA inadvertently used the incorrect format for the notice number in the header information of the special condition as 29-039-SW-SC. The correct notice number is 29-039-SC.

Correction

In the final special condition, FR Doc. 2019-27088, published on November 9, 2016 at 81 FR 78707 make the following correction:

1. On page 78707, in column one, in the heading of the final special condition, revise “Notice No. 29-039-SW-SC” to read as “Notice No. 29-039-SC”.

Issued in Fort Worth, Texas, on May 19, 2017.
Lance Gant,
Manager, Rotorcraft Directorate, Aircraft Certification Service.

[FR Doc. 2017-11070 Filed 5-30-17; 8:45 am]

BILLING CODE 4910-13-P